DEPARTMENT OF ENERGY

Federal Energy Regulatory Commission

[Project No. 13850-000]

Qualified Hydro 25, LLC; Notice of Preliminary Permit Application Accepted for Filing and Soliciting Comments, Motions To Intervene, and Competing Applications

On September 30, 2010, Qualified Hydro 25, LLC filed an application for a preliminary permit, pursuant to section 4(f) of the Federal Power Act (FPA), proposing to study the feasibility of the Easton Diversion Dam Hydroelectric Project (Easton Dam project) to be located on the Yakima River near Easton in Kittitas County, Washington. The sole purpose of a preliminary permit, if issued, is to grant the permit holder priority to file a license application during the permit term. A preliminary permit does not authorize the permit holder to perform any land-disturbing activities or otherwise enter upon lands or waters owned by others without the owners' express permission.

The Commission issued a notice on February 16, 2011, accepting the application and soliciting comments, motions to intervene, and competing applications within a 60-day period. On March 31, 2011, the Kittitas Reclamation District filed a letter with the Commission stating they were not notified of the preliminary permit application. This notice is extending the period for soliciting comments, motions to intervene, and competing applications for an additional 30 days.

The proposed project would utilize the existing 66-foot-high, 248-foot-long concrete gravity dam and gated outlet on the Yakima River, owned and operated by the U.S. Bureau of Reclamation, and will consist of the following: (1) A new 20-foot-wide concrete intake structure with trash racks and intake gates; (2) a new 325-foot-long, 72-inch-diameter steel penstock from the intake structure to the powerhouse; (3) a new 50-foot by 40-foot reinforced concrete powerhouse containing one Kaplan turbine with a capacity of 1.2 megawatts; (4) a new substation; (5) a new approximately 1,400-foot-long, 34.5-69 kilovolt transmission line which will tie into an undetermined interconnection; and (6) appurtenant facilities. The estimated annual generation of the Easton Dam project would be 5.0 gigawatt-hours.

Applicant Contact: Ramya Swaminthan, Qualified Hydro 25, LLC, 33 Commercial St., Gloucester, MA 01930; phone: (978) 283-2822.

FERC Contact: Ryan Hansen (202) 502-8074 or by e-mail at ryan.hansen@ferc.gov.

Deadline for filing comments, motions to intervene, competing applications (without notices of intent), or notices of intent to file competing applications: 30 Days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13850-000) in the docket number field to access the document. For assistance, contact FERC Online Support.

Dated: April 7, 2011.
Kimberly D. Bose,
Secretary.

[FR Doc. 2011-8888 Filed 4-12-11; 8:45 am]

BILLING CODE 6717-01-P